DEPARTMENT OF COMMERCE

Patent and Trademark Office

[Docket No.: PTO-C-2023-0002]

National Medal of Technology and Innovation Nomination Evaluation Committee Meeting

AGENCY: United States Patent and Trademark Office, Department of Commerce.

ACTION: Notice of closed meeting.

SUMMARY: The National Medal of Technology and Innovation (NMTI or Medal) is the nation's highest honor for technological achievement, bestowed by the president of the United States on America's leading innovators. The Medal is awarded to individuals, teams (up to four individuals), companies or divisions of companies for their outstanding contributions to America's economic, environmental and social well-being. The NMTI Nomination Evaluation Committee will meet in a closed session on March 13, 2023. The primary purpose of the meeting is to discuss the relative merits of the people, teams, and companies nominated for the NMTI.

DATES: The meeting will convene on March 13, 2023, at approximately 9 a.m. and adjourn at approximately 4 p.m.

ADDRESSES: The meeting will take place at the United States Patent and Trademark Office (USPTO), 600 Dulany St., Alexandria, VA 22314.

FOR FURTHER INFORMATION CONTACT: Linda Hosler, Program Manager, National Medal of Technology and Innovation Program, USPTO, at 600 Dulany St., Alexandria, VA 22314; 571-272-8514; or nmti@uspto.gov.

SUPPLEMENTARY INFORMATION: Pursuant to the Federal Advisory Committee Act (FACA), 5 U.S.C. 1001 et seq., notice is hereby given that the NMTI Nomination Evaluation Committee, chartered to the United States Department of Commerce, will meet at the USPTO campus in Alexandria, Virginia, on March 13, 2023.

The Secretary of Commerce is responsible for recommending to the President prospective NMTI recipients. The NMTI Nomination Evaluation Committee evaluates the nominations received via public solicitation and makes its recommendations for the Medal to the Secretary. Committee members are distinguished experts in the fields of science, technology, business, and patent law. They come from both the public and private sectors and are appointed by the Secretary for three-year terms.

The NMTI Nomination Evaluation Committee was established in accordance with the FACA. The Committee meeting will be closed to the public, in accordance with the FACA and 5 U.S.C. 552b(c)(6) and (9)(B), because the discussion of the relative merits of the Medal nominations is likely to disclose information of a personal nature that, if shared widely, would constitute an unwarranted invasion of the personal privacy of the nominees. Premature disclosure of the Committee's recommendations would also likely significantly frustrate the implementation of the Medal program.

The Acting Chief Financial Officer and Assistant Secretary of Commerce for Administration, United States Department of Commerce, formally determined on February 17, 2023, pursuant to section 1009(d) of the FACA, that the meeting may be closed because Committee members are concerned with matters that are within the purview of 5 U.S.C. 552b(c)(6) and (9)(B). Due to the closure of this meeting, copies of any meeting minutes will not be available. A copy of the Notice of Determination for Closure of Meeting is available for public inspection at the USPTO.

Katherine K. Vidal,
Under Secretary of Commerce for Intellectual Property and Director of the United States Patent and Trademark Office.

[FR Doc. 2023-03957 Filed 2-23-23; 8:45 am]

BILLING CODE 3510-16-P